DEPARTMENT OF ENERGY

Federal Energy Regulatory Commission

Combined Notice of Filings #2

Take notice that the Commission received the following electric corporate filings:

Docket Numbers: EC17-123-000.

Applicants: American Transmission Company LLC, Wisconsin Power and Light Company.

Description: Supplement to May 20, 2017 Application of American Transmission Company LLC, et. al. (Exhibit N) under Section 203 of the FPA.

Filed Date: 6/21/17.

Accession Number: 20170621-5190.

Comments Due: 5 p.m. ET 7/12/17.

Take notice that the Commission received the following electric rate filings:

Docket Numbers: ER17-193-001.

Applicants: Midcontinent Independent System Operator, Inc.

Description: Compliance filing: 2017-06-22_SA 2856_MidAm-MidAm Substitute 1st Revised GIA to be effective 10/28/2016.

Filed Date: 6/22/17.

Accession Number: 20170622-5096.

Comments Due: 5 p.m. ET 7/13/17.

Docket Numbers: ER17-1886-000.

Applicants: NorthWestern Corporation.

Description: Tariff Cancellation: Notice of Cancellation: SA 783, Firm Point-to-Point TSA with Energy Keepers to be effective 9/1/2017.

Filed Date: 6/22/17.

Accession Number: 20170622-5080.

Comments Due: 5 p.m. ET 7/13/17.

Docket Numbers: ER17-1887-000.

Applicants: NorthWestern Corporation.

Description: § 205(d) Rate Filing: SA 818—Firm Point-to-Point TSA with Energy Keepers (MVP) to be effective 9/1/2017.

Filed Date: 6/22/17.

Accession Number: 20170622-5087.

Comments Due: 5 p.m. ET 7/13/17.

Take notice that the Commission received the following foreign utility company status filings:

Docket Numbers: FC17-2-000.

Applicants: Jacinta Solar Farm S.R.L.

Description: Self-Certification of Foreign Utility Company Status of Jacinta Solar Farm S.R.L.

Filed Date: 6/22/17.

Accession Number: 20170622-5136.

Comments Due: 5 p.m. ET 7/13/17.

Docket Numbers: FC17-3-000.

Applicants: Nicefield S.A.

Description: Self-Certification of Foreign Utility Company Status of Nicefield S.A.

Filed Date: 6/22/17.

Accession Number: 20170622-5137.

Comments Due: 5 p.m. ET 7/13/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 22, 2017.
Nathaniel J. Davis, Sr.,
Deputy Secretary.

[FR Doc. 2017-13524 Filed 6-27-17; 8:45 am]

BILLING CODE 6717-01-P